DEPARTMENT OF LABOR

Mine Safety and Health Administration

Petitions for Modification

AGENCY: Mine Safety and Health Administration, Labor.

ACTION: Notice of petitions for modification of existing mandatory safety standards.

SUMMARY: Section 101(c) of the Federal Mine Safety and Health Act of 1977 and 30 CFR part 44 govern the application, processing, and disposition of petitions for modification. This notice is a summary of petitions for modification filed by the parties listed below to modify the application of existing mandatory safety standards published in Title 30 of the Code of Federal Regulations.

DATES: All comments on the petitions must be received by the Office of Standards, Regulations, and Variances on or before June 30, 2008.

ADDRESSES: You may submit your comments, identified by “docket number” on the subject line, by any of the following methods:

1. Electronic mail: Standards-Petitions@dol.gov.

2. Facsimile: 1-202-693-9441.

3. Regular Mail: MSHA, Office of Standards, Regulations, and Variances, 1100 Wilson Boulevard, Room 2349, Arlington, Virginia 22209, Attention: Patricia W. Silvey, Director, Office of Standards, Regulations, and Variances.

4. Hand-Delivery or Courier: MSHA, Office of Standards, Regulations, and Variances, 1100 Wilson Boulevard, Room 2349, Arlington, Virginia 22209, Attention: Patricia W. Silvey, Director, Office of Standards, Regulations, and Variances.

We will consider only comments postmarked by the U.S. Postal Service or proof of delivery from another delivery service such as UPS or Federal Express on or before the deadline for comments. Individuals who submit comments by hand-delivery are required to check in at the receptionist desk on the 21st floor.

Individuals may inspect copies of the petitions and comments during normal business hours at the address listed above.

FOR FURTHER INFORMATION CONTACT: Lawrence D. Reynolds, Office of Standards, Regulations, and Variances at 202-693-9449 (Voice), reynolds.lawrence@dol.gov (E-mail), or 202-693-9441 (Telefax), or contact Barbara Barron at 202-693-9447 (Voice), barron.barbara@dol.gov (E-mail), or 202-693-9441 (Telefax). [These are not toll-free numbers].

SUPPLEMENTARY INFORMATION:

I. Background

Section 101(c) of the Federal Mine Safety and Health Act of 1977 (Mine Act) allows the mine operator or representative of miners to file a petition to modify the application of any mandatory safety standard to a coal or other mine if the Secretary determines that: (1) An alternative method of achieving the result of such standard exists which will at all times guarantee no less than the same measure of protection afforded the miners of such mine by such standard; or (2) that the application of such standard to such mine will result in a diminution of safety to the miners in such mine. In addition, the regulations at 30 CFR 44.10 and 44.11 establish the requirements and procedures for filing petitions for modifications.

II. Petitions for Modification

Docket Number: M-2008-020-C.

Petitioner: Rockhouse Creek Development, LLC, P.O. Box 1389, Gilbert, West Virginia 25621.

Mine: No. 2 Mine, MSHA I.D. No. 46-08636, No. 6 Mine, MSHA I.D. No. 46-08268, and No. 9 Mine, MSHA I.D. No. 46-08976 located in Logan County, West Virginia; and No. 3 Mine, MSHA I.D. No. 46-08778 and No. 8 Mine, MSHA I.D. No. 46-09018 located in Mingo County, West Virginia.

Regulation Affected: 30 CFR 75.1101-1(b) (Deluge-type water spray systems).

Modification Request: The petitioner requests a modification of the existing standard to permit an alternative method of compliance in lieu of using blow-off dust covers for deluge-type water spray nozzles. The petitioner proposes to remove blow-off dust covers from the nozzles and continue weekly inspections and functional testing of the complete deluge-type water spray system. The petitioner states that: (1) Its water spray system consists of an average of thirty sprays along each of approximately ten primary belt-conveyor drives and an average of sixty sprays along each of eight secondary drives; (2) currently each nozzle is provided with a blow-off dust cover; (3) in view of the frequent inspections and functional testing of the system, the dust covers are not necessary because the nozzles can be maintained in an unclogged condition through weekly use; and (4) to recap the large number of covers on a weekly basis after each inspection and functional test is burdensome. The petitioner asserts that the proposed alternative method at all times guarantee no less than the same measure of protection afforded the miners than that under the existing standard.

Docket Number: M-2008-021-C.

Petitioner: TJS Mining Company, Inc., 2340 Smith Road, Shelocta, Pennsylvania 15774.

Mine: Rossmoyne #1 Mine MSHA I.D. No. 36-09075, located in Armstrong County, Pennsylvania.

Regulation Affected: 30 CFR 75.500(b), (c), and (d) (Permissible electric equipment).

Modification Request: The petitioner requests a modification of the existing standard to permit the use of low-voltage or battery-powered non-permissible equipment in or inby the last open crosscut under controlled conditions, for testing and diagnosing the mining equipment, for advancing surveyor sites in the working sections, and for final surveying in the return areas of the mine. The petitioner states that: (1) The use of non-permissible low-voltage or battery-powered equipment will be limited to: laptop computers, oscilloscopes, vibration analysis machines, cable fault detectors, point temperature probes, infrared temperature devices and recorders, insulation testers, battery operated drills, electronic transits, insulation testers (meggers), voltage, current and power measurement devices and recorders, pressure flow measurement devices, signal analyzer devices, ultrasonic thickness gauges, electronic component testers, digital cameras, and electronic tachometers; (2) other testing and diagnostic equipment may be used if approved in advance by MSHA's District Office; (3) non-permissible electronic testing and diagnostic equipment will be used only when equivalent permissible equipment is not available; (4) all other test and diagnostic equipment used within 150 feet of pillar workings will be permissible; (5) all non-permissible electronic testing and diagnostic equipment used in or inby the last open crosscut, in return area, or within 150 feet of pillar workings or longwall face, will be examined by a qualified person prior to use, to insure that the equipment is being maintained in a safe operating condition; (6) results of the examination will be recorded in the weekly examination book and made available to an authorized representative of the Secretary and to the miners at the mine; (7) a qualified person will continuously monitor for methane immediately before and during the use of non-permissible electronic test and diagnostic equipment in or inby the last open crosscut, in return areas, or within 150 feet of pillar workings or longwall face; (8) if methane at or above 1.0 percent is detected, non-permissible electronic testing and diagnostic equipment will not be used; (9) if methane is detected while non-permissible electronic equipment is in use, the equipment will be de-energized immediately and will be withdrawn outby the last open crosscut or to a minimum of 150 feet outby pillar workings or longwall face; and (10) all hand-held methane detectors will be MSHA approved and maintained in permissible and proper operating condition as defined in 30 CFR 75.320. The petitioner further states that qualified personnel engaged in the use of electronic test and diagnostic equipment will be properly trained to recognize the hazards and limitations associated with the use of the equipment. Persons may review a complete description of petitioner's alternative method and procedures at the MSHA address listed in the notice. The petitioner asserts that the proposed alternative method will at all times guarantee no less than the same measure of protection afforded the miners by such standard with no diminution of safety to the miners.

Docket Number: M-2008-022-C.

Petitioner: TJS Mining Company, Inc., 2340 Smith Road, Shelocta, Pennsylvania 15774.

Mine: Darmac #2 Mine, MSHA I.D. No. 36-08135, located in Armstrong County, Pennsylvania.

Regulation Affected: 30 CFR 75.500(b), (c), and (d) (Permissible electric equipment).

Modification Request: The petitioner requests a modification of the existing standard to permit the use of low-voltage or battery-powered non-permissible equipment in or inby the last open crosscut under controlled conditions, for testing and diagnosing the mining equipment, for advancing surveyor sites in the working sections, and for final surveying in the return areas of the mine. The petitioner states that: (1) The use of non-permissible low-voltage or battery-powered equipment will be limited to: laptop computers, oscilloscopes, vibration analysis machines, cable fault detectors, point temperature probes, infrared temperature devices and recorders, insulation testers, battery operated drills, electronic transits, insulation testers (meggers), voltage, current and power measurement devices and recorders, pressure flow measurement devices, signal analyzer devices, ultrasonic thickness gauges, electronic component testers, digital cameras, and electronic tachometers; (2) other testing and diagnostic equipment may be used if approved in advance by MSHA's District Office; (3) non-permissible electronic testing and diagnostic equipment will be used only when equivalent permissible equipment is not available; (4) all other test and diagnostic equipment used within 150 feet of pillar workings will be permissible; (5) all non-permissible electronic testing and diagnostic equipment used in or inby the last open crosscut, in return area, or within 150 feet of pillar workings or longwall face, will be examined by a qualified person prior to use, to insure that the equipment is being maintained in a safe operating condition; (6) results of the examination will be recorded in the weekly examination book and made available to an authorized representative of the Secretary and to the miners at the mine; (7) a qualified person will continuously monitor for methane immediately before and during the use of non-permissible electronic test and diagnostic equipment in or inby the last open crosscut, in return areas, or within 150 feet of pillar workings or longwall face; (8) if methane at or above 1.0 percent is detected, non-permissible electronic testing and diagnostic equipment will not be used; (9) if methane is detected while non-permissible electronic equipment is in use, the equipment will be de-energized immediately and will be withdrawn outby the last open crosscut or to a minimum of 150 feet outby pillar workings or longwall face; and (10) all hand-held methane detectors will be MSHA approved and maintained in permissible and proper operating condition as defined in 30 CFR 75.320. The petitioner further states that qualified personnel engaged in the use of electronic test and diagnostic equipment will be properly trained to recognize the hazards and limitations associated with the use of the equipment. Persons may review a complete description of petitioner's alternative method and procedures at the MSHA address listed in the notice. The petitioner asserts that the proposed alternative method will at all times guarantee no less than the same measure of protection afforded the miners by such standard with no diminution of safety to the miners.

Docket Number: M-2008-023-C.

Petitioner: TJS Mining Company, Inc., 2340 Smith Road, Shelocta, Pennsylvania 15774.

Mine: TJS #5 Mine, MSHA I.D. No. 35-09159, located in Armstrong County, Pennsylvania.

Regulation Affected: 30 CFR 75.500(b), (c), and (d) (Permissible electric equipment).

Modification Request: The petitioner requests a modification of the existing standard to permit the use of low-voltage or battery-powered non-permissible equipment in or inby the last open crosscut under controlled conditions, for testing and diagnosing the mining equipment, for advancing surveyor sites in the working sections, and for final surveying in the return areas of the mine. The petitioner states that: (1) The use of non-permissible low-voltage or battery-powered equipment will be limited to: laptop computers, oscilloscopes, vibration analysis machines, cable fault detectors, point temperature probes, infrared temperature devices and recorders, insulation testers, battery operated drills, electronic transits, insulation testers (meggers), voltage, current and power measurement devices and recorders, pressure flow measurement devices, signal analyzer devices, ultrasonic thickness gauges, electronic component testers, digital cameras, and electronic tachometers; (2) other testing and diagnostic equipment may be used if approved in advance by MSHA's District Office; (3) non-permissible electronic testing and diagnostic equipment will be used only when equivalent permissible equipment is not available; (4) all other test and diagnostic equipment used within 150 feet of pillar workings will be permissible; (5) all non-permissible electronic testing and diagnostic equipment used in or inby the last open crosscut, in return area, or within 150 feet of pillar workings or longwall face, will be examined by a qualified person prior to use, to insure that the equipment is being maintained in a safe operating condition; (6) results of the examination will be recorded in the weekly examination book and made available to an authorized representative of the Secretary and to the miners at the mine; (7) a qualified person will continuously monitor for methane immediately before and during the use of non-permissible electronic test and diagnostic equipment in or inby the last open crosscut, in return areas, or within 150 feet of pillar workings or longwall face; (8) if methane at or above 1.0 percent is detected, non-permissible electronic testing and diagnostic equipment will not be used; (9) if methane is detected while non-permissible electronic equipment is in use, the equipment will be de-energized immediately and will be withdrawn outby the last open crosscut or to a minimum of 150 feet outby pillar workings or longwall face; and (10) all hand-held methane detectors will be MSHA approved and maintained in permissible and proper operating condition as defined in 30 CFR 75.320. The petitioner further states that qualified personnel engaged in the use of electronic test and diagnostic equipment will be properly trained to recognize the hazards and limitations associated with the use of the equipment. Persons may review a complete description of petitioner's alternative method and procedures at the MSHA address listed in the notice. The petitioner asserts that the proposed alternative method will at all times guarantee no less than the same measure of protection afforded the miners by such standard with no diminution of safety to the miners.

Docket Number: M-2008-024-C.

Petitioner: TJS Mining Company, Inc., 2340 Smith Road, Shelocta, Pennsylvania 15774.

Mine: TJS #6 Mine, MSHA I.D. No. 35-09464, located in Armstrong County, Pennsylvania.

Regulation Affected: 30 CFR 75.500(b), (c), and (d) (Permissible electric equipment).

Modification Request: The petitioner requests a modification of the existing standard to permit the use of low-voltage or battery-powered non-permissible equipment in or inby the last open crosscut under controlled conditions, for testing and diagnosing the mining equipment, for advancing surveyor sites in the working sections, and for final surveying in the return areas of the mine. The petitioner states that: (1) The use of non-permissible low-voltage or battery-powered equipment will be limited to: laptop computers, oscilloscopes, vibration analysis machines, cable fault detectors, point temperature probes, infrared temperature devices and recorders, insulation testers, battery operated drills, electronic transits, insulation testers (meggers), voltage, current and power measurement devices and recorders, pressure flow measurement devices, signal analyzer devices, ultrasonic thickness gauges, electronic component testers, digital cameras, and electronic tachometers; (2) other testing and diagnostic equipment may be used if approved in advance by MSHA's District Office; (3) non-permissible electronic testing and diagnostic equipment will be used only when equivalent permissible equipment is not available; (4) all other test and diagnostic equipment used within 150 feet of pillar workings will be permissible; (5) all non-permissible electronic testing and diagnostic equipment used in or inby the last open crosscut, in return area, or within 150 feet of pillar workings or longwall face, will be examined by a qualified person prior to use, to insure that the equipment is being maintained in a safe operating condition; (6) results of the examination will be recorded in the weekly examination book and made available to an authorized representative of the Secretary and to the miners at the mine; (7) a qualified person will continuously monitor for methane immediately before and during the use of non-permissible electronic test and diagnostic equipment in or inby the last open crosscut, in return areas, or within 150 feet of pillar workings or longwall face; (8) if methane at or above 1.0 percent is detected, non-permissible electronic testing and diagnostic equipment will not be used; (9) if methane is detected while non-permissible electronic equipment is in use, the equipment will be de-energized immediately and will be withdrawn outby the last open crosscut or to a minimum of 150 feet outby pillar workings or longwall face; and (10) all hand-held methane detectors will be MSHA approved and maintained in permissible and proper operating condition as defined in 30 CFR 75.320. The petitioner further states that qualified personnel engaged in the use of electronic test and diagnostic equipment will be properly trained to recognize the hazards and limitations associated with the use of the equipment. Persons may review a complete description of petitioner's alternative method and procedures at the MSHA address listed in the notice. The petitioner asserts that the proposed alternative method will at all times guarantee no less than the same measure of protection afforded the miners by such standard with no diminution of safety to the miners.

Jack Powasnik,
Deputy Director, Office of Standards, Regulations, and Variances.

[FR Doc. E8-12035 Filed 5-29-08; 8:45 am]

BILLING CODE 4510-43-P